ENVIRONMENTAL PROTECTION AGENCY

[EPA-HQ-RCRA-2011-0185; FRL-9273-7]

Solicitation of Input From Stakeholders To Inform the National Framework for Electronics Stewardship

AGENCY: Environmental Protection Agency.

ACTION: Notice.

SUMMARY: The Environmental Protection Agency (EPA), General Services Administration (GSA), and Council on Environmental Quality (CEQ) are requesting written stakeholder input to inform the national framework for electronics stewardship that is being developed by the Interagency Task Force on Electronics Stewardship. On November 15, 2010, President Obama signed a presidential proclamation celebrating the strides the country has made in recycling, while also highlighting the need for greater attention on used electronics management throughout the product lifecycle. CEQ Chair Nancy Sutley established an interagency task force on November 8, 2010 to provide a national strategy and recommendations for areas of Federal agency operational and managerial improvement associated with electronics stewardship. The Task Force is scheduled to deliver to CEQ a national framework for electronics stewardship by May 6, 2011. By this notice, the Environmental Protection Agency, on behalf of the Task Force, is soliciting public comment from interested parties regarding the national framework.

DATES: All comments must be received on or before March 11, 2011.

ADDRESSES: You may submit your comments, identified by EPA-HQ-RCRA-2011-0185, using one of the following methods:

http://www.regulations.gov: Follow the on-line instructions for submitting comments. Note, while this request is not a federal regulation, input on the plan can be submitted through this federal Web site.

E-mail: Comments may be sent by electronic mail (e-mail) to rcra.docket@epamail.epa.gov, Attention Docket ID No. EPA-HQ-RCRA-2011-0185.

Mail: Comments may be submitted by mail to: OSWER Docket, Office of Resource Conservation and Recovery, U.S. Environmental Protection Agency, Mailcode: 28221T, 1200 Pennsylvania Avenue, NW., Washington, DC 20460, Attention Docket ID No. EPA-HQ-RCRA-2011-0185. Please include a total of two copies of your comments.

Hand Delivery: Deliver two copies of your comments to: EPA Docket Center, Public Reading Room, Room 3334, EPA West Building, 1301 Constitution Avenue, NW., Washington, DC 20460, Attention Docket ID No. EPA-HQ-RCRA-2011-0185. Such deliveries are only accepted during the Docket's normal hours of operation (8:30 a.m. to 4:30 p.m.), Monday through Friday, excluding legal holidays and special arrangements should be made for deliveries of boxed information.

Instructions: Direct your comments to Docket ID No. EPA-HQ-RCRA-2011-0185. All comments must be in English or be accompanied by an English translation. EPA's policy is that all comments received will be included in the docket without change and may be made available on-line at http://www.regulations.gov, including any personal information provided. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available at http://www.regulations.gov. Although listed in the index, some information is not publicly available, e.g., confidential business information (CBI) or other information whose disclosure is restricted by statute. Certain other material, such as copyrighted material, is not placed on the Internet and will be publicly available only in hard copy form. Publicly available docket materials are available either electronically in http://www.regulations.gov or in hard copy at the OSWER Docket in the EPA Docket Center (EPA/DC), EPA West, Room 3334, 1301 Constitution Avenue, NW., Washington, DC 20460. The Public Meeting Room is open from 8:30 a.m. to 4:30 p.m., Monday through Friday, excluding legal holidays. The telephone number for the OSWER Docket and the Public Reading Room is (202) 566-1744. Docket visitors are required to show photographic identification, pass through a metal detector, and sign the EPA visitor log. All visitor bags are processed through an X-ray machine and subject to search. Visitors will be provided an EPA/DC badge that must be visible at all times in the building and returned upon departure.

FOR FURTHER INFORMATION CONTACT: Shayla Powell, Resource Conservation and Sustainability Division (5306P), Office of Resource Conservation and Recovery, Environmental Protection Agency, 1200 Pennsylvania Ave., NW., Washington, DC 20460-0001; telephone number: (703) 308-0319; e-mail address: powell.shayla@epa.gov or visit http://www.epa.gov/wastes/conserve/materials/ecycling/taskforce/.

SUPPLEMENTARY INFORMATION:

I. General Information

A. Does this action apply to me?

You may be interested in providing input if you manufacture, distribute, sell, label, certify, verify, refurbish, recycle, purchase or use consumer, commercial, or industrial electronics, or conduct research in any of these areas. Potentially interested entities may include, but are not limited to:

• Manufacturing (NAICS code 33).

• Wholesale trade (NAICS code 42).

• Electronics and Appliance Stores (NAICS code 443).

• Consumer Goods Rental (NAICS code 5322).

• Computer System Design and Related Services (NAICS code 5415)

• Waste Management and Remediation Services (NAICS code 562)

• Electronic and Precision Equipment Repair and Maintenance (NAICS code 8112).

• Public Administration (NAICS code 92).

This listing is not intended to be exhaustive, but rather provides a guide for readers regarding entities likely to be interested in this action. Other types of entities not listed in this unit could also be affected. The North American Industrial Classification System (NAICS) codes have been provided to assist you and others in determining whether this applies to certain entities. If you have any questions regarding the applicability of this action to a particular entity, consult the technical person listed under FOR FURTHER INFORMATION CONTACT.

B. What should I consider as I prepare my comments for EPA?

1. Tips for preparing your comments. When submitting comments, remember to:

i. Identify the document by docket ID number and other identifying information (subject heading, Federal Register date and page number).

ii. Submit all comments in English or have them be accompanied by an English translation.

iii. Follow directions. The Agency may ask you to respond to specific questions or organize comments by referencing a Code of Federal Regulations (CFR) part or section number.

iv. Explain why you agree or disagree; suggest alternatives and substitute language for your requested changes.

v. Describe any assumptions and provide any technical information and/or data that you used.

vi. If you estimate potential costs or burdens, explain how you arrived at your estimate in sufficient detail to allow for it to be reproduced.

vii. Explain your views as clearly as possible.

viii. Make sure to submit your comments by the comment period deadline identified.

II. Background

The increased use of electronics and technology in society brings the challenge of protecting human health and the environment from potentially harmful effects of the improper handling and disposal of these products. Discarded electronics comprise a small, but rapidly growing part of our municipal waste.

Currently, there are no federal mandates that require electronics recycling or restrict unwanted electronics equipment from solid waste landfills in the United States. EPA does, however, control how cathode ray tube (CRT) monitors (e.g., from TV and computers) that are subject to hazardous waste regulation are managed domestically and requires notifications if CRT monitors are exported for recycling. A growing number of states are mandating collection and recycling of used electronics. In addition, there are now two electronics recycling standards and accredited certification programs that address the handling of used electronics throughout the recycling chain. (Basel Action Network; e-Stewards Certification; http://e-stewards.org/. R2 Solutions; R2 certification; http://www.r2solutions.org/.)

Unwanted or discarded electronics not reused or recycled represents a lost opportunity to reuse functioning electronic equipment and components, such as cell phone and computers/laptops or recover valuable resources, such as precious metals, plastics or minerals that are found in scarce or critical supply. Additionally, used electronics may be exported to developing countries that lack capacity to manage them appropriately and result in negative impacts to human health and the environment. The majority of electronics recyclers in the United States refurbish, repair, or pre-process (demanufacture, shred, sort) used electronics to prepare them for the final recovery step. Facilities that further recover raw materials, through smelting and refining (end-processing), are mostly located outside the United States. These facilities convert electronics scrap into: (1) High grade copper and precious metals (e.g., gold, silver, and palladium); (2) new CRTs; or (3) new plastics, all materials that can be reused in the marketplace.

To address the problems related to used electronics both here and abroad, American businesses, government, and citizens must work together to manage these electronics throughout the product lifecycle—from design and manufacturing through their use and eventual recycling, recovery, and disposal. On November 8, 2010, CEQ Chair Nancy Sutley established an interagency working group that is co-chaired by EPA, GSA and CEQ to develop a national strategy and recommendations for improving Federal stewardship of used electronics. By May 6, 2011, the Task Force will deliver to CEQ a national framework for:

1. Directing Federal agencies to exercise all appropriate authorities to achieve the electronic stewardship goals, consistent with domestic and international law;

2. Developing a system-based approach to the long-term design, management and disposal of Federal used electronics;

3. Information gathering and tracking, regulatory options, and best management practices for used electronics that can be used by the Federal agencies and leveraged to the private sector;

4. Building partnerships in the public and private sector for sustainable electronics management nationwide;

5. Reducing exports of used electronics to developing countries that lack the capacity to properly manage them, and assess how federal agencies can improve their ability to deter these exports; and,

6. Building capacity within and share best practices with developing countries, so they can improve their ability to safely handle used electronics, while promoting economic development.

A. What action is the Agency taking?

EPA and the Interagency Task Force are soliciting input from individuals and organizations to inform the electronics stewardship national framework. More specifically, EPA and the Interagency Task Force would appreciate your individual views regarding the following questions:

1. What actions should the federal government take to further encourage the design, manufacture, procurement, and use of greener electronics?

2. What are the challenges to designing and manufacturing products in which rare and valuable materials are 100% recyclable, and are recycled at end of product life? What can the federal government do to help address those challenges?

3. What are best practices for used electronics management that the federal government should adopt? What examples of best management practices of used electronics have been implemented in your community, organization or institution?

4. How can the amount of electronics that are recycled in the United States be increased, while ensuring that they are managed safely and properly?

5. What additional infrastructure is needed, and what can be done to encourage its development, in the United States to responsibly reuse and recycle used electronics from governments, businesses and private consumers?

6. What innovations in electronic design exist that would enable electronics to be tracked until disposal?

7. What information would be most helpful to you when deciding how to dispose of used electronics?

8. What projects, practices or efforts, are you aware of that addresses the problem of used electronics from the United States being exported and being handled in a way that causes harm to health and the environment?

9. How could public-private partnerships help resolve any or all the questions above?

The framework that is released on May 6, 2011 will include additional follow on steps to engage all stakeholders.

For your convenience the questions above are also available for viewing at http://www.epa.gov/wastes/conserve/materials/ecycling/taskforce/.

B. What is the Agency's authority for taking this action?

Executive Order (E.O.) 13514 specifies Federal Leadership in Environmental, Energy, and Economic Performance. An overall goal of EO 13514 is “to establish an integrated strategy towards sustainability in the Federal Government.” Section 2(i) of E.O. 13514 establishes electronics stewardship goals. In the spirit of E.O. 13514, the government will lead by example in this effort by ensuring that the departments and agencies of the federal government, some of the largest consumers of electronics in the country, are also the most responsible consumers.

Comments Consideration

The EPA and the Interagency Task Force on Electronics Stewardship will consider stakeholder input received from written comments in developing the Framework. There will be another opportunity to comment on the Framework developed by the Task Force after it is delivered to the Council on Environmental Quality.

List of Subjects

Environmental protection, Electronics stewardship, Sustainability, E-waste.

Dated: February 23, 2011.
Lisa Feldt,
Deputy Assistant Administrator, Office of Solid Waste and Emergency Response.

[FR Doc. 2011-4505 Filed 2-28-11; 8:45 am]

BILLING CODE 6560-50-P